SMALL BUSINESS ADMINISTRATION

Revocation of License of Small Business Investment Company

Pursuant to the authority granted to the United States Small Business Administration by the Wind-Up Order of the United States District Court of the Middle District Court of Georgia, Macon Division, dated December 6, 2010, the United States Small Business Administration hereby revokes the license of First Growth Capital, Inc. a Georgia Corporation, to function as a small business investment company under the Small Business Investment Company License No. 04045251 issued to First Growth Capital, Inc., on December 13, 1989 and said license is hereby declared null and void as of December 6, 2010.

Dated: October 24, 2011.
By: United States Small Business Administration.
Sean J. Greene,
Associate Administrator for Investment.

U.S. Small Business Administration

Office of Liquidation

409 Third Street SW., Sixth Floor

Washington, DC 20416

M E M O R A N D U M

Date: October 5, 2011

To: Jacqueline K. White

Chief, Administration Information Branch

From: Associate Administrator for Investment

Subject: Publication of License Surrender

First Growth Capital, Inc.

License #: 04045251

Enclosed are the original, five hard copies, and a computer disk copy of the Notice of License Surrender of a Small Business Investment Company License. I certify that the hard copy and the disk copy match.

Please have the attached Notice of Surrender of a Small Business Investment Company License published in the Federal Register and return one copy for our office records.

If you have any questions about this Federal Register Notice request, please contact Charlotte Johnson at (202) 205-6502.

Thank you in advance for your cooperation.

Sean J. Greene

Associate Administrator for Investment

Attachment: 5 copies and 1 disk

Legal

Date

[FR Doc. 2011-31069 Filed 12-2-11; 8:45 am]

BILLING CODE 8025-01-P